DEPARTMENT OF TRANSPORTATION

Pipeline and Hazardous Materials Safety Administration

[Docket No. PHMSA-07-3]

Hazardous Materials: Reducing the Risk of Hazardous Materials Incidents During Loading and Unloading Operations

AGENCY: Pipeline and Hazardous Materials Safety Administration (PHMSA), DOT.

ACTION: Notice of public workshop on loading/unloading practices.

SUMMARY: As part of PHMSA's efforts to review bulk loading and unloading of hazardous materials and to develop risk reduction strategies, the agency invites interested persons to participate in a public workshop that will examine industry data, identify industry best practices and standards, discuss the role of recommended practices for loading and unloading, and consider industry actions that have the potential to reduce risk during loading and unloading. PHMSA seeks the broadest participation of industry, federal agencies, state and local government, standards organizations, the emergency response community, employee groups, environmental and public interest organizations, and the public. PHMSA seeks individuals and organizations willing to speak at the public workshop. Interested persons are invited to submit papers on related topics.

DATES: Public meeting: June 14, 2007, starting at 9 a.m.

ADDRESSES: Public meeting: The meeting will be held at Lowe's L'Enfant Plaza Hotel, 480 L'Enfant Plaza, SW., Washington, DC 20024. For information on the facilities or to request special accommodations at the meeting, please contact Mr. Rick Boyle by telephone or e-mail as soon as possible.

Written Comments: Written comments may be submitted and identified by DOT DMS Docket Number PHMSA-07-3 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal Holidays.

FOR FURTHER INFORMATION CONTACT: Mr. Rick Boyle, Office of Hazardous Materials Technology, Pipeline and Hazardous Materials Technology, 1200 New Jersey Avenue, SE., Washington, DC 20590, phone number: (202) 366-4545, e-mail: rick.boyle@dot.gov, or, Mr. Douglas Reeves, Office of Hazardous Materials Technology, Pipeline and Hazardous Materials Technology, 1200 New Jersey Avenue, SE., Washington, DC 20590, phone number: (202) 366-4545, e-mail: douglas.reeves@dot.gov.

SUPPLEMENTARY INFORMATION:

I. Background

A recent PHMSA review of bulk loading and unloading incidents over the past decade suggests roughly one quarter to one half of overall hazardous materials transportation incidents may be attributable to loading and unloading operations, particularly bulk packages. We also note that a significant proportion of National Transportation Safety Board (NTSB) hazardous materials accident reports over this period address safety concerns regarding bulk loading or unloading operations.

II. Purpose of Public Workshop

PHMSA is using an enterprise approach, bringing all stakeholders together for conceptual discussions, to examine the bulk loading and unloading issue and the range of potential industry actions to reduce risk in the transportation of hazardous materials. This public workshop is an early step in this effort.

The workshop will consist of a series of panel presentations on specific topics followed by discussions of the issues involved. We anticipate that the panels will cover incident data and relevant NTSB accident reports; loading and unloading procedures, including existing recommended practices and potential gaps; assessment; training; and emergency response. An ad-hoc industry working group has submitted a draft recommended practice on contents of bulk loading and unloading procedures. PHMSA encourages all stakeholders to review the draft available in the docket as a starting point for discussions.

The public may attend and participate in this workshop without prior notification; however, to structure the event to best utilize technical experience in attendance, PHMSA asks that individuals submit information, if possible, on their areas of expertise and interests prior to the workshop. Individuals who wish to make presentations on the panels should contact Mr. Rick Boyle or Mr. Douglas Reeves and make arrangements to participate on the panels prior to the workshop. PHMSA plans to invite specific individuals and Federal agency representatives to make presentations as the workshop agenda is developed.

Advance material that should be reviewed prior to the workshop can be found in the docket or at http://primis.phmsa.dot.gov/meetings. Directions to the workshop location, the workshop agenda, an attendee information submittal form, and the draft recommended practice on contents of bulk loading and unloading procedures can be found at these locations.

PHMSA also invites interested persons who are unable to attend the public workshop and who have an interest in bulk loading and unloading of hazardous materials to submit comments pertinent to panels and topics identified in the workshop agenda or to provide any relevant information or data to the DOT Docket Management System Docket Number PHMSA-07-3. Comments may be submitted by any method noted in the ADDRESSES section above.

Issued in Washington, DC on May 7, 2007, under authority delegated in 49 CFR part 106.
Theodore L. Willke,
Acting Associate Administrator for Hazardous Materials Safety.

[FR Doc. E7-9066 Filed 5-10-07; 8:45 am]

BILLING CODE 4910-60-P